INTERNATIONAL TRADE COMMISSION

[USITC SE-06-011]

Sunshine Act Meeting Notice

Agency Holding the Meeting: International Trade Commission.

Time and Date: February 23, 2006 at 11 a.m.

Place: Room 101, 500 E Street SW., Washington, DC 20436. Telephone: (202) 205-2000.

Status: Open to the public.

Matters to Be Considered:

1. Agenda for future meetings: none.

2. Minutes.

3. Ratification List.

4. Inv. Nos. 701-TA-401 and 731-TA-853 and 854 (Second Review) (Structural Steel Beams from Japan and Korea)—briefing and vote. (The Commission is currently scheduled to transmit its determination and Commissioners' opinions to the Secretary of Commerce on or before March 8, 2006.).

5. Outstanding action jackets: none.

In accordance with Commission policy, subject matter listed above, not disposed of at the scheduled meeting, may be carried over to the agenda of the following meeting.

By order of the Commission:
Issued: February 3, 2006.
Marilyn R. Abbott,
Secretary to the Commission.

[FR Doc. 06-1176 Filed 2-3-06; 2:00 pm]

BILLING CODE 7020-02-P